DEPARTMENT OF AGRICULTURE

Forest Service

White River National Forest; Summit County, CO; Breckenridge Ski Resort Multi-Season Recreation Projects EIS

AGENCY: Forest Service, USDA.

ACTION: Notice of intent to prepare an environmental impact statement.

SUMMARY: Breckenridge Ski Resort (BSR) has submitted a proposal to the White River National Forest (WRNF) to pursue approval of proposed projects included in its 2013 Master Development Plan (MDP) Addendum. The WRNF has accepted this proposal, and is preparing an Environmental Impact Statement (EIS) to analyze and disclose the potential environmental effects of implementing the projects. The Proposed Action is a range of projects designed to improve year-round recreation opportunities and better meet the changing needs and expectations of visitors to Breckenridge and the WRNF. The proposal hopes to better support a year-round economy in Breckenridge and Summit County by providing a diversity of attractions and outdoor activities that would attract visitors to the area. By providing a greater variety of activities and a longer season to visit BSR, the proposed educational and recreational opportunities would connect a more diverse group of visitors to our National Forest and the outdoors.

DATES: Comments concerning the scope of the analysis must be received by March 12, 2014 The Draft EIS is expected to be available for public review in the Fall/Winter of 2014 and the Final EIS is expected in the Spring/Summer of 2015.

ADDRESSES: Send written comments to: Scott Fitzwilliams, Forest Supervisor, c/o Roger Poirier, Project Leader, 120 Midland Ave, Suite 140, Glenwood Springs, CO 81601; FAX (970) 945-9029 or electronically to: https://cara.ecosystem-management.org/Public//CommentInput?Project=43291.

FOR FURTHER INFORMATION CONTACT: Additional information related to the proposed project can be obtained from: Roger Poirier, Project Leader, 120 Midland Ave, Suite 140, Glenwood Springs, CO 81601. Mr. Poirier can be reached by email at rogierpoirier@fs.fed.us.

Individuals who use telecommunication devices for the deaf (TDD) may call the Federal Information Relay Service (FIRS) at 1-800-877-8339 between 8 a.m. and 8 p.m., Eastern Time, Monday through Friday.

SUPPLEMENTARY INFORMATION: Purpose and Need for Action: Summer recreational opportunities have been offered at BSR since the 1970s. These opportunities are, and continue to be, important to BSR and its guests, in providing outdoor recreation activities in the National Forest in a comfortable setting. The current summer guest experience at BSR is primarily defined by more developed activities on private lands and dispersed activities on National Forest System (NFS) lands. Specific to the activities on NFS lands within the BSR SUP area, guests primarily participate in lift-served and non-lift-served hiking and mountain biking via the Colorado SuperChair and trails dispersed across Peaks 7, 8 and 9.

Through ongoing, year-round tourism growth, BSR is becoming a summer destination for guests primarily from the United States, and from Colorado in particular. In both winter and summer, BSR caters to a broad spectrum of guests of all ages, abilities, and experience with the outdoors. Since 2010 the Peak 8 Fun Park (located on private lands), which includes an alpine slide, a coaster, mini-golf, and other activities, has experienced approximately 18 percent annual growth in its summer activity usage. The proposed projects would complement these current activities by offering an even broader range of passive and active recreation opportunities in the Forest to engage visitors.

The philosophy for BSR's summer program on NFS lands is based on the premise that the National Forests are, and have always been, the greatest opportunity for guests to use and enjoy public lands. The summer program goal is to introduce guests to the White River National Forest and encourage outdoor recreation and enjoyment of nature. BSR desires to provide a fun recreational experience while reducing the barriers that can be associated with recreating in a mountain environment.

Over the past several decades, summer recreation activities have evolved to include a significant variety of activities and user experiences. Likewise, recreational use in the National Forests has evolved beyond the traditional activities and solitude-seeking experiences such as hunting, fishing, camping or hiking.

There is a desire to not only provide new experiences for current Forest users but to provide opportunities that will engage new users to visit and experience NFS lands. Currently at BSR, there is a lack of recreational opportunities that provide:

• Adventure or thrill-based experiences that require little specialized knowledge, skills, equipment or familiarity with the mountain environment—elements which can be a barrier for visitors (e.g. families, the elderly/aging, or those with disabilities) desiring to engage in outdoor activities;

• Activity-based interaction with a forested, mountain environment in a controlled setting, offering an opportunity for users to interact with and learn about nature;

• Human-powered, active recreational experiences that cater to all ability levels; and

• Interpretive programs that offer an educational experience for users seeking to learn more about the environment.

There is a need for recreational and learning opportunities on public lands that include passive, active and interactive forms of recreation to provide this comprehensive range of user experiences.

In addition, there is a need for adequate access and support service infrastructure (e.g. roads, support buildings, restaurants) to meet current and anticipated summer use at BSR.

The Ski Area Recreational Opportunity Enhancement Act of 2011 (SAROEA) provides authority for mountain resorts operating on NFS lands to offer an expanded range of outdoor recreation activities in order to further recreational opportunities for the public, allow year-round utilization of existing resort facilities and stimulate job creation and economic growth within local communities. The proposed projects align with the intent of SAROEA.

Proposed Action: The Proposed Action includes the following seventeen elements, identified below. A full description of each element can be found at: http://www.fs.fed.us/nepa/fs-usda-pop.php/?project=43291.

• Improve natural aesthetic look and feel of the Vista Haus and Independence SuperChair Summit Site Plan with landscaping, access pathways, signage, and possible road realignments.

• Install the Sawmill Zip Line from a location south of the top terminal of the Peak 8 SuperConnect to its endpoint near the top terminal of the Snowflake lift.

• Install the Peak 7 Zip Line from a location near the top terminal of the Independence SuperChair to its endpoint near the Peak 7 base area.

• Install the Sawmill Canopy Tour from a location near the Vista Haus to an endpoint along Four O'Clock ski trail. The canopy tour would utilize a series of approximately nine zip lines and ten canopy tour stations.

• Install the Ore Bucket Canopy Tour from a location just west (uphill) of the Independence SuperChair to the Angels Rest ski trail and the 7/8 Access Road on Peak 7. The canopy tour would utilize a series of approximately 9 zip lines and 10 stations.

• Install the Claimjumper Canopy Tour on Peak 7 near the upper 1/3 portion of the Independence SuperChair and Claimjumper ski trail. BSR will complete the layout of this canopy tour and provide the information to the Forest Service for analysis in the Draft EIS.

• Construct two challenge courses featuring a series of wooden columns, platforms and rope walkways/bridges adjacent to the Vista Haus on Peak 8 with one course geared towards children under 10 and a second for older guests.

• New and Realigned Mountain Bike Trails and Skills Courses are proposed on Peak 7 to connect to and expand on the existing trail network on Peak 8 and 9. The proposal includes the creation of beginner skills courses on Peak 7 and 8.

• Construct approximately 2 miles of new dispersed and guided hiking trails, including way-finding and interpretive sites.

• Initiate new off-highway vehicle tours on existing and proposed roads for additional sightseeing opportunities.

• Realign Four O'Clock Road to remove the excessive grade by adding switchbacks and adding roughly half a mile of new roadway.

• Expand the Peak 7 Hut Deck/Building to add approximately 500 square feet to the building and expanded outside deck to better provide space for guests and operations.

• Expand the Vista Haus Deck to add approximately 1,500 square feet on the south side of the lodge and would accompany the construction of a climbing wall.

• Construct an observation tower on Peak 8 approximately 30 feet in height.

• Operate the existing Colorado SuperChair, Independence SuperChair, 6 Chair and Imperial Express SuperChair for scenic lift rides and activities access.

• Implement summer uses restoration projects in response to existing and proposed disturbed areas within and potentially beyond the SUP boundary. These projects would be developed subsequent to scoping and would be analyzed in the Draft EIS.

These projects are proposed to expand opportunities for developing year-round recreational activities, and improve Breckenridge's year-round economy by attracting a wide range of visitors, of all ages, abilities, and familiarity with the outdoors, to our National Forest.

Responsible Official: The Responsible Official is Scott Fitzwilliams, Forest Supervisor for the WRNF.

Nature of Decision To Be Made: Based on the analysis that will be documented in the forthcoming EIS, the Responsible Official will decide whether or not to implement, in whole or in part, the Proposed Action or another alternative that may be developed by the Forest Service as a result of scoping.

Scoping Process: This notice of intent initiates the scoping process, which guides the development of the environmental impact statement. The Forest Service is soliciting comments from Federal, State and local agencies and other individuals or organizations that may be interested in or affected by implementation of the proposed projects. A public open house regarding this proposal will be held at Mountain Thunder Lodge (50 Mountain Thunder Drive, Breckenridge, CO 80424) on March 5, 2014 between 4:30 and 6:30 p.m. Representatives from the WRNF and BSR will be present to answer questions and provide additional information on this project.

Public questions and comments regarding this proposal are an integral part of this environmental analysis process. Input provided by interested and/or affected individuals, organizations and governmental agencies will be used to identify resource issues that will be analyzed in the environmental impact statement. The Forest Service will identify significant issues raised during the scoping process, and use them to formulate alternatives, prescribe mitigation measures and project design features, or analyze environmental effects.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: February 4, 2014.
Jan Cutts,
District Ranger.

[FR Doc. 2014-02778 Filed 2-7-14; 8:45 am]

BILLING CODE 3410-11-P